DEPARTMENT OF ENERGY

Federal Energy Regulatory Commission

[Project No. 1888-043]

York Haven Power Company, LLC; Notice of Intent To Prepare an Environmental Assessment

On January 26, 2023, as supplemented on October 5 and 20, 2023, York Haven Power Company, LLC filed an application for a non-capacity amendment for the York Haven Hydroelectric Project No. 1888. The project is located on the Susquehanna River in Lancaster and York counties, Pennsylvania. The project does not occupy Federal lands.

The licensee proposes to amend its license to allow for the construction and operation of an inland nature-like fishway versus the in-river nature-like fishway currently required by the license. Amending the license would allow the licensee to incorporate the amended terms of the project's Settlement Agreement, which now requires an inland nature-like fishway. In addition, the licensee is proposing to amend Article 404 of its license to expand the window for tree clearing activities associated with construction of the fishway (August 16 to May 14, as opposed to November 15 to March 31 as currently stated in Article 404). A Notice of Application Accepted for Filing and Soliciting Comments, Motions to Intervene, and Protests was issued on April 13, 2023. No comments were received; however, one motion to intervene was filed by Constellation Energy Generation, LLC.

This notice identifies Commission staff's intention to prepare an environmental assessment (EA) for the proposed action. The planned schedule for the completion of the EA is May 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued May 2024. Agencies wishing to cooperate, or further discuss the benefits, responsibilities, and obligations of the cooperating agency role, should contact staff listed at the bottom of this notice by February 16, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Joy Kurtz at 202-502-6760 or joy.kurtz@ferc.gov.

Dated: January 26, 2024.
Debbie-Anne Reese,
Acting Secretary.

[FR Doc. 2024-02028 Filed 1-31-24; 8:45 am]

BILLING CODE 6717-01-P